SECURITIES AND EXCHANGE COMMISSION

[Release No. 34-65511; File No. 4-639]

Public Roundtable on Execution, Clearance and Settlement of Microcap Securities

AGENCY: Securities and Exchange Commission.

ACTION: Notice of roundtable discussion; request for comment.

SUMMARY: On Monday, October 17, 2011, commencing at 1 p.m. and ending at 5 p.m., staff of the Securities and Exchange Commission (“SEC” or “Agency”) will hold a public roundtable meeting at which invited participants will discuss various issues related to the Execution, Clearance and Settlement of Microcap Securities.

The roundtable discussion will be held in the multi-purpose room of the Securities and Exchange Commission headquarters at 100 F Street, NE., in Washington, DC on Monday, October 17, 2011, commencing at 1 p.m. and ending at 5 p.m. The public is invited to observe the roundtable discussion. Seating will be available on a first-come, first-served basis. The roundtable discussion also will be available via webcast on the Commission's Web site at http://www.sec.gov.

The roundtable will consist of a series of three panels. Panelists will consider a range of microcap securities topics, such as the current issues facing small cap issuers in the clearance and settlement process, potential regulatory changes impacting the Over-The-Counter markets, and Anti-Money Laundering concerns specific to microcap issuers.

DATES: The roundtable discussion will be held on Monday, October 17, 2011. The Commission will accept comments regarding issues addressed at the roundtable until October 31, 2011.

ADDRESSES: Comments may be submitted by any of the following methods:

Electronic Comments

• Use the Commission's Internet comment form (http://www.sec.gov/rules/other.shtml); or

• Send an e-mail to rule-comments@sec.gov. Please include File Number 4-639 on the subject line.

Paper Comments

• Send paper comments in triplicate to Elizabeth M. Murphy, Secretary, Securities and Exchange Commission, 100 F Street, NE., Washington, DC 20549-1090.

All submissions should refer to File Number 4-639. This file number should be included on the subject line if e-mail is used. To help us process and review your comments more efficiently, please use only one method. The Commission will post all comments on the Commission's Internet Web site (http://www.sec.gov). Comments are also available for Web site viewing and printing in the Commission's Public Reference Room, 100 F Street, NE., Washington, DC 20549, on official business days between the hours of 10 a.m. and 3 p.m. All comments received will be posted without change; we do not edit personal identifying information from submissions. You should submit only information that you wish to make available publicly.

FOR FURTHER INFORMATION CONTACT: The Microcap Roundtable Hotline at (202) 551-6607, Division of Enforcement, Securities and Exchange Commission, 100 F Street, NE., in Washington, DC 20549-7010.

Dated: October 7, 2011.
By the Commission.
Elizabeth M. Murphy,
Secretary.

[FR Doc. 2011-26440 Filed 10-12-11; 8:45 am]

BILLING CODE 8011-01-P